DEPARTMENT OF TRANSPORTATION

Federal Highway Administration

[Docket No. FHWA-2025-0005]

Agency Information Collection Activities: Notice of Request for Approval of a New Information Collection

AGENCY: Federal Highway Administration (FHWA), DOT.

ACTION: Notice of Request for Approval of a New Information Collection.

SUMMARY: The FHWA has forwarded the information collection request described in this notice to the Office of Management and Budget (OMB) for approval of a new (periodic) information collection. We published a Federal Register Notice with a 60-day public comment period on this information collection on November 18, 2019. We are required to publish this notice in the Federal Register by the Paperwork Reduction Act of 1995.

DATES: Please submit comments by April 5, 2021.

ADDRESSES: You may submit comments identified by DOT Docket ID Number (FHWA-2125-0005) by any of the following methods:

Website: For access to the docket to read background documents or comments received, go to the Federal eRulemaking Portal: http://www.regulations.gov. Follow the online instructions for submitting comments.

Fax: 1-202-493-2251

Mail: Docket Management Facility; U.S. Department of Transportation, West Building Ground Floor, Room W12-140, 1200 New Jersey Avenue SE, Washington, DC 20590.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Daniel Jenkins, 202-366-1067, daniel.jenkins@dot.gov, National Travel Behavior Data Program Manager, Federal Highway Administration, Office of Policy, 1200 New Jersey Avenue SE, Room E83-414, Washington, DC 20590, Monday through Friday, except Federal holidays.

SUPPLEMENTARY INFORMATION: Title: Next Generation National Household Travel Survey (Next Gen NHTS)

Type of Request: New request for periodic information collection requirement

Background: Title 23, United States Code, Section 502 authorizes the USDOT to carry out advanced research and transportation research to measure the performance of the surface transportation systems in the US, including the efficiency, energy use, air quality, congestion, and safety of the highway and intermodal transportation systems. The USDOT is charged with the overall responsibility to obtain current information on national patterns of travel, which establishes a data base to better understand travel behavior, evaluate the use of transportation facilities, and gauge the impact of the USDOT's policies and programs.

The NHTS is the USDOT's authoritative nationally representative data source for daily passenger travel. This inventory of travel behavior reflects travel mode (e.g., private vehicles, public transportation, walk and bike) and trip purpose (e.g., travel to work, school, recreation, personal/family trips) by U.S. household residents. Survey results are used by federal and state agencies to monitor the performance and adequacy of current facilities and infrastructure, and to plan for future needs.

The collection and analysis of national transportation data has been of critical importance for half a century. Previous surveys were conducted in 1969, 1977, 1983, 1990, 1995, 2001, 2009, and 2017. The current survey will be the ninth in this series, and allow researchers, planners, and officials at the state and federal levels to monitor travel trends.

Data from the NHTS are widely used to support research needs within the USDOT, and State and local agencies, in addition to responding to queries from Congress, the research community and the media on important issues. Current and recent topics of interest include:

• Travel to work patterns by transportation mode for infrastructure improvements and congestion reduction,

• Access to public transit, paratransit, and rail services by various demographic groups,

• Measures of travel by mode to establish exposure rates for risk analyses,

• Support for Federal, State, and local planning activities and policy evaluation,

• Active transportation by walk and bike to establish the relationship to public health issues,

• Vehicle usage for energy consumption analysis,

• Traffic behavior of specific demographic groups such as Millennials and the aging population.

Within the USDOT, the Federal Highway Administration (FHWA) holds responsibility for technical and funding coordination. The National Highway Traffic Safety Administration (NHTSA), Federal Transit Administration (FTA), and the Bureau of Transportation Statistics (BTS) are also primary data users and have historically participated in project planning and financial support.

Proposed Data Acquisition Methodology

NHTS data are collected from a probability-based sample comprised of a representative mixture of households with respect to various geodemographic characteristics. For this purpose, FHWA will field two independent survey designs using two independent samples: (a) An address-based sample (ABS) of 7,500 households and (b) a panel frame sample (PFS) of 7,500 households drawn from a previously recruited national probability-based online panel. The ABS sample will deliver a set of national data that will be used for official purposes and will be available for public use. The PFS sample will offer FHWA an opportunity to conduct an independent assessment of the viability of an alternative data collection methodology for future NHTS data collection efforts.

Randomly sampled ABS households will be surveyed using a combined mail/online survey mode in that they will receive a mailing that directs them to an online survey system to capture household information and core travel data. Non-internet ABS households will be offered paper versions of the questionnaire and trip diary. For the PFS sample, an online panel survey approach will be used, where email invitations will be sent to selected panel members inviting them to participate in the survey. Follow-ups with nonresponding households from the ABS and PFS samples will utilize mail, telephone, and email communications where contact information is available, and the contact method is appropriate.

Monetary incentives will be provided for all ABS households that complete the survey. As the burden is higher for those in households with more people, larger households will receive a larger incentive amount. Households will receive $5 per household member when all household members complete the travel survey.

Both the ABS and PFS survey modes will collect data during an entire 12-month period so that all 365 days of the year, including weekends and holidays, are accounted for. To maximize the accuracy of the recall information and to provide coverage for every day of the year, all surveys will collect information about the travel during the previous 24 hours. A total of 7,500 completed households will comprise the ABS sample and 7,500 completed households will comprise the PFS probability-based panel sample.

Issues Related to Sampling. The sampling design reflects the U.S. household trends of decreasing landline telephone ownership and increasing access to the internet. Both the ABS and PFS samples will originate from the USPS Delivery Sequence File (DSF), which includes all points of delivery in the US. The requisite address samples are obtained from a third party vendor that enhances the residential address by appending various auxiliary variables to the DSF prior to sample selection including block-, block group-, and tract-level characteristics from the Decennial Census, the American Community Survey (ACS), and commercial databases.

Sample Size. In total, completed surveys will be secured for a nationally representative sample of 7,500 households using the ABS sample and an additional 7,500 households will be completed from the PFS sample.

Stratification. The sample for this survey will be designed to produce the most efficient estimates at the national level, as well as those needed for urban and rural areas. While different sample allocation options for the national sample are being considered in order to arrive at a final allocation for the NHTS sample, the 7,500 households will be selected from each sampling frame in a manner that ensures estimates can be generated for urban, rural, and national geographic levels.

It should be noted that assignments for recording travel data by households in each sample (ABS and PFS) will be equally distributed across all days to ensure an approximately balanced day of week distribution. To this end, the sample will be released periodically through a process that will control the balance of travel days by month.

Data Collection Methods

The questionnaire for this survey will be designed to be relevant, aesthetically pleasing, and elicit participation by including topics of importance to the respondents.

Information Proposed for Collection

For the ABS sample, households will receive an invitation to complete the survey through the US mail. The online panel survey households will receive an emailed invitation. In both survey modes, the primary household respondent will complete a short roster to collect key household information (e.g., enumeration of household members and household vehicles). Then, all travel information about a specific day from every household member 5 years of age and older will be collected using the online travel diary or equivalent paper form.

For households choosing to complete the survey online, the primary respondent will complete the household roster, then complete his or her diary as well as serve as a proxy responder for all children 5-15 years old in the household. Household members 16 and older will be invited to complete their own online diaries. If they fail to do so in a reasonable amount of time after multiple reminders, the primary household member may be asked to serve as a proxy for non-responding teens and adults in the household. Households electing to complete the survey by mail will be provided equivalent paper forms, with similar proxy-reporting instructions.

The online household travel diary program will allow for sophisticated branching and skip patterns to enhance data retrieval by asking only those questions that are necessary and appropriate for the individual participant. Look-up tables will be included to assist with information such as vehicle makes and models. A Google Maps API will be used to assist in identifying specific place names and locations. The location data for the participant's home, workplace, or school will be stored and automatically inserted in the dataset for trips after the first report. Household rostering will include a list of all persons in the household and trips reported from one household member can be referenced for ease in reporting that trip by other household members who travelled together. This automatic insert of information reduces the burden of the subsequent respondents to be queried about a trip already reported by the initial respondent.

Data range, consistency and edit checks will be automatically programmed to reduce reporting error, survey length, and maintain the flow of information processing. Data cross checks also help reduce the burden by ensuring that the reporting is consistent within each trip. Surveys completed by mail will be entered into the same online survey program to ensure consistency in quality control efforts.

Estimated Burden Hours for Information Collection

Frequency: This collection will be conducted every 2-4 years in the future.

Respondents. As mentioned earlier, two nationally representative random samples of 7,500 households from the ABS and PFS samples representing the 50 states and the District of Columbia will be surveyed. Given that each household will include an average of 2.5 members 5-years of age or older, travel data for a total of 18,750 individual respondents will be collected for the ABS survey and an additional 18,750 individual respondents will complete the PFS survey.

Estimated Average Burden per Response. It will take approximately 5 minutes to complete the roster data form, and 15 minutes to complete the travel diary. This results in a total of 20 minutes for the first household member and 15 minutes per additional household member (these estimates are the same for both ABS and PFS respondents).

Estimated Total Annual Burden Hours. It is estimated that a total of 18,750 persons will be included in the survey from each sampling frame (ABS and PFS). This would result in approximately 10,625 hours of support for this data collection effort, assuming an average of 17 minutes per person across the roster data form and retrieval survey.

Post-Collection Independent Analysis

The two proposed survey approaches will provide FHWA the opportunity to assess validity and reliability of the panel frame sample approach for use in future NHTS data collection cycles. At the conclusion of this data collection effort, FHWA will conduct an independent assessment of the results from both survey designs, with a focus on identifying similarities and differences with respect to survey administration metrics, including response rates, unit and item non-response, etc. In addition, the differences in travel patterns will also be assessed. This includes assessing the differences in trip rates, miles traveled, distance traveled, trip purpose, travel mode, and time of day of trip-making by specific demographic and geographic subpopulation groupings. The results from both survey modes will also be vetted against external data sources such as the Census, the American Community Survey, the National Transit Database, and FHWA data on vehicle miles traveled.

Public Comments Invited

You are asked to comment on any aspect of this information collection, including: (1) Whether the proposed collection of information is necessary for the USDOT's performance, including whether the information will have practical utility; (2) the data acquisition methods; (3) the accuracy of the USDOT's estimate of the burden of the proposed information collection; (4) the types of data being acquired; (5) ways to enhance the quality, usefulness, and clarity of the collected information; and (6) ways that the burden could be minimized without reducing the quality of the collected information. The agency will summarize and/or include your comments in the request for OMB's clearance of this information collection.

Authority: The Paperwork Reduction Act of 1995; 44 U.S.C. Chapter 35, as amended; and 49 CFR 1.48.

Issued on: March 1, 2021.
Michael Howell,
Information Collection Officer, Federal Highway Administration.

[FR Doc. 2021-04456 Filed 3-3-21; 8:45 am]

BILLING CODE 4910-22-P